DEPARTMENT OF HEALTH AND HUMAN SERVICES

Centers for Disease Control and Prevention

[Program Announcement 03034]

Public Health Laboratory Biomonitoring Implementation Program; Notice of Availability of Funds-Amendment

A notice announcing the availability of fiscal year (FY) 2003 funds for cooperative agreements to establish or expand state public health laboratory biomonitoring capacity was published in the Federal Register on April 3, 2003, Vol. 68, No. 64, pages 16287-16292. The notice is amended as follows:

On page 16289, Column 1, Section “F. Content,” Paragraph “Applications,” Line 11, delete the words “no more than 25 pages” and replace with “no more than 40 pages.”

Dated: June 13, 2003.
Edward Schultz,
Acting Director, Procurement and Grants Office, Centers for Disease Control and Prevention.

[FR Doc. 03-15592 Filed 6-19-03; 8:45 am]

BILLING CODE 4163-18-P